NUCLEAR REGULATORY COMMISSION

[Docket Nos. 52-012-COL and 52-013-COL; ASLBP No. 09-885-08-COL-BD01]

Atomic Safety and Licensing Board Panel; In the Matter of South Texas Project Nuclear Operating Company (South Texas Project Units 3 and 4); Notice and Order (Regarding Oral Argument)

June 04, 2009.

Before the Licensing Board: Michael M. Gibson, Chairman; Gary S. Arnold; Randall J. Charbeneau.

Oral argument will be heard on standing and contention admissibility issues presented with regard to a hearing request received in this proceeding, which involves the application of South Texas Project Nuclear Operating Company for a combined operating license of its planned construction and operation of two Advanced Boiling Water Reactors it has designated as Units 3 and 4.

The participants are advised of the following information regarding the schedule for the initial prehearing conference in this proceeding:

Date: Tuesday, June 23—Wednesday, June 24, 2009.

Starting Time: 9 a.m. Central Time (CT).

Location: Bay City Civic Center, Main Hall Room 100, 201 7th St., Bay City, TX 77414.

Currently, the Board anticipates that this conference should last no more than two days. The Board will issue a separate order in the near future providing more information on issues it wishes the participants to address during the conference as well as details on a site visit.

It is so ordered.

Rockville, Maryland. June 04, 2009.
For the Atomic Safety and Licensing Board.
Michael M. Gibson,
Chairman.

[FR Doc. E9-13574 Filed 6-9-09; 8:45 am]

BILLING CODE 7590-01-P